DEPARTMENT OF ENERGY

Federal Energy Regulatory Commission

Combined Notice of Filings #1

Take notice that the Commission received the following electric rate filings:

Docket Numbers: ER20-2429-004.

Applicants: ISO New England Inc., Central Maine Power Company.

Description: Compliance filing: Central Maine Power Company submits tariff filing per 35: Supplement to Compliance Filing to Schedule 21-CMP to be effective N/A.

Filed Date: 4/15/22.

Accession Number: 20220415-5139.

Comment Date: 5 p.m. ET 5/6/22.

Docket Numbers: ER22-1641-000.

Applicants: Southern California Edison Company.

Description: § 205(d) Rate Filing: 2022 Amended LGIA Dracker Solar Project TOT276 (SA97) to be effective 6/14/2022.

Filed Date: 4/14/22.

Accession Number: 20220414-5227.

Comment Date: 5 p.m. ET 5/5/22.

Docket Numbers: ER22-1642-000.

Applicants: Associated Electric Cooperative, Inc.

Description: Renewed Request for Waiver of Tariff Provisions of Associated Electric Cooperative, Inc.

Filed Date: 4/14/22.

Accession Number: 20220414-5265.

Comment Date: 5 p.m. ET 5/5/22.

Docket Numbers: ER22-1643-000.

Applicants: PJM Interconnection, L.L.C.

Description: § 205(d) Rate Filing: First Revised ISA No. 6100; Queue No. AE2-112/AF1-036 to be effective 3/16/2022.

Filed Date: 4/15/22.

Accession Number: 20220415-5068.

Comment Date: 5 p.m. ET 5/6/22.

Docket Numbers: ER22-1644-000.

Applicants: PJM Interconnection, L.L.C.

Description: § 205(d) Rate Filing: Original WMPA SA No. 6426; Queue No. AD1-105 to be effective 3/18/2022.

Filed Date: 4/15/22.

Accession Number: 20220415-5087

Comment Date: 5 p.m. ET 5/6/22.

Docket Numbers: ER22-1645-000.

Applicants: Pacific Gas and Electric Company.

Description: § 205(d) Rate Filing: E&P Proforma Letter Agreement WDT to be effective 6/15/2022.

Filed Date: 4/15/22.

Accession Number: 20220415-5126.

Comment Date: 5 p.m. ET 5/6/22.

Docket Numbers: ER22-1646-000.

Applicants: Pacific Gas and Electric Company.

Description: § 205(d) Rate Filing: WPA For Shelter Cove Solar Study WDT SA 382 to be effective 6/15/2022.

Filed Date: 4/15/22.

Accession Number: 20220415-5134.

Comment Date: 5 p.m. ET 5/6/22.

Docket Numbers: ER22-1647-000.

Applicants: Alabama Power Company, Georgia Power Company, Mississippi Power Company.

Description: Tariff Amendment: Alabama Power Company submits tariff filing per 35.15: Tippsol (Tipperary Solar) LGIA Termination Filing to be effective 4/15/2022.

Filed Date: 4/15/22.

Accession Number: 20220415-5138.

Comment Date: 5 p.m. ET 5/6/22.

Docket Numbers: ER22-1648-000.

Applicants: Pacific Gas and Electric Company.

Description: § 205(d) Rate Filing: E&P Proforma Letter Agreement TO to be effective 6/15/2022.

Filed Date: 4/15/22.

Accession Number: 20220415-5147.

Comment Date: 5 p.m. ET 5/6/22.

Docket Numbers: ER22-1649-000.

Applicants: PJM Interconnection, L.L.C.

Description: § 205(d) Rate Filing: Original WMPA, Service Agreement No. 6388; Queue No. AG1-397 to be effective 3/16/2022.

Filed Date: 4/15/22.

Accession Number: 20220415-5154.

Comment Date: 5 p.m. ET 5/6/22.

Docket Numbers: ER22-1651-000.

Applicants: PacifiCorp.

Description: § 205(d) Rate Filing: OATT Formula Rate—Schedule 10 Trans System Loss Factor June 2022 to be effective 6/1/2022.

Filed Date: 4/15/22.

Accession Number: 20220415-5172.

Comment Date: 5 p.m. ET 5/6/22.

Docket Numbers: ER22-1652-000.

Applicants: Energy Prepay I, LLC.

Description: Baseline eTariff Filing: Baseline new to be effective 4/16/2022.

Filed Date: 4/15/22.

Accession Number: 20220415-5180.

Comment Date: 5 p.m. ET 5/6/22.

Docket Numbers: ER22-1653-000.

Applicants: PacifiCorp.

Description: § 205(d) Rate Filing: Tri-State Master Installation, O&M Agmt for Metering (Rev 4) to be effective 6/15/2022.

Filed Date: 4/15/22.

Accession Number: 20220415-5202.

Comment Date: 5 p.m. ET 5/6/22.

Take notice that the Commission received the following PURPA 210(m)(3) filings:

Docket Numbers: QM22-11-000.

Applicants: Wisconsin Public Service Corporation.

Description: Application of Wisconsin Public Service Cooperation to Terminate Its Mandatory Purchase Obligation under the Public Utility Regulatory Policies Act of 1978.

Filed Date: 4/14/22.

Accession Number: 20220414-5261.

Comment Date: 5 p.m. ET 5/12/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

Dated: April 15, 2022.
Debbie-Anne A. Reese,
Deputy Secretary.

[FR Doc. 2022-08551 Filed 4-21-22; 8:45 am]

BILLING CODE 6717-01-P